DEPARTMENT OF COMMERCE

International Trade Administration

[A-570-846]

Brake Rotors From the People's Republic of China: Final Results of Third New Shipper Review and Final Results and Partial Rescission of Second Antidumping Duty Administrative Review

AGENCY: Import Administration, International Trade Administration, Department of Commerce.

ACTION: Notice of final results of third new shipper review and final results and partial rescission of second antidumping duty administrative review.

SUMMARY: On December 29, 1999, the Department of Commerce published the preliminary results of the third new shipper review and the preliminary results and partial rescission of the second antidumping duty administrative review of the antidumping duty order on brake rotors from the People's Republic of China. See Preliminary Results of Third New Shipper Review and Preliminary Results and Partial Rescission of Second Antidumping Duty Administrative Review: Brake Rotors from the People's Republic of China, 64 FR 73007 (December 29, 1999) (Preliminary Results). The products covered by this order are brake rotors from the People's Republic of China. These reviews cover nine exporters (see “Background” section below for further discussion). The period of review is April 1, 1998, through March 31, 1999.

Based on the additional publicly available information used in these final results and the comments received from the interested parties, we have made changes in the margin calculations for all nine exporters. The final weighted-average dumping margins for the reviewed firms are listed below in the section entitled “Final Results of Reviews.”

EFFECTIVE DATE: October 30, 2000.

FOR FURTHER INFORMATION CONTACT: Brian Smith or Terre Keaton, Import Administration, International Trade Administration, U.S. Department of Commerce, Washington, DC 20230; telephone: (202) 482-1766 or (202) 482-1280.

SUPPLEMENTARY INFORMATION:

The Applicable Statute

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department's”) regulations are to 19 CFR Part 351 (2000).

Background

These reviews cover the following nine exporters: (1) Jilin Provincial Machinery & Equipment Import & Export Corporation (“Jilin”); (2) Laizhou Auto Brake Equipments Factory (“LABEF”); (3) Laizhou Hongda Auto Replacement Parts Co., Ltd. (“Laizhou Hongda”); (4) Longkou Haimeng Machinery Co. (“Haimeng”); (5) Qingdao (Gren) Co. (“GREN”); (6) Yantai Import & Export Corporation (“Yantai”); (7) Yantai Winhere Auto-Part Manufacturing Co. (“Winhere”); (8) Yenhere Corporation (“Yenhere”); and (9) Zibo Botai Machinery Manufacturing Co. (“Zibo”). The period of review (POR) is April 1, 1998, through March 31, 1999.

On December 29, 1999, the Department published in the Federal Register the preliminary results of the third new shipper review and preliminary results and partial rescission of second antidumping duty administrative review of the antidumping duty order on brake rotors from the People's Republic of China (“PRC”) (64 FR 73007). On March 10, 2000, the respondents and the petitioner submitted publicly available information (“PAI”) at the Department's request. The interested parties submitted their case briefs on March 24, 2000. Only the petitioner submitted a rebuttal brief on March 29, 2000. On March 29, 2000, the Department notified the petitioner and respondents that it intended to conduct verification of the responses submitted by Jilin, Laizhou Hongda, Winhere, and Yenhere. Therefore, in order to accomodate these verifications, the Department published in the Federal Register a notice which postponed the final results in these reviews until October 24, 2000. See Postponement of Final Results of Antidumping Duty Administrative Review: Brake Rotors from the People's Republic of China, 65 FR 19359 (April 11, 2000). In June 2000, we conducted verification of the responses submitted by the above-mentioned four respondents. In July 2000, we placed additional PAI on the record and provided the parties with the opportunity to comment. In July and August 2000, we issued the verification reports.

As a result of our decision to conduct verification of the responses submitted by certain companies and postpone the final results, we provided the interested parties with another opportunity to submit PAI. The petitioner submitted PAI on August 15, 2000. On August 20, 2000, we requested that the petitioner provide additional import values for six material inputs for the time period August-December 1998 from the Indian government publication Monthly Statistics of the Foreign Trade of India (“Monthly Statistics”). On August 23, 2000, we provided the respondents with the same opportunity. On August 25, 2000, the respondents submitted PAI from Monthly Statistics for the six inputs at issue, but the time period of the data differed from our request. On September 1, 2000, we returned the PAI submitted by the respondents on August 25, 2000. The petitioner submitted its case brief on September 5, 2000. The respondents submitted their rebuttal brief on September 13, 2000.

On October 2, 2000, we placed on the record additional PAI for electricity and marine insurance for consideration in the final results and provided the parties with an opportunity for comment. Neither party submitted comments on this additional information.

The Department has conducted these reviews in accordance with section 751 of the Act.

Scope of Reviews

The products covered by these reviews are brake rotors made of gray cast iron, whether finished, semifinished, or unfinished, ranging in diameter from 8 to 16 inches (20.32 to 40.64 centimeters) and in weight from 8 to 45 pounds (3.63 to 20.41 kilograms). The size parameters (weight and dimension) of the brake rotors limit their use to the following types of motor vehicles: Automobiles, all-terrain vehicles, vans and recreational vehicles under “one ton and a half,” and light trucks designated as “one ton and a half.”

Finished brake rotors are those that are ready for sale and installation without any further operations. Semi-finished rotors are those on which the surface is not entirely smooth, and have undergone some drilling. Unfinished rotors are those which have undergone some grinding or turning.

These brake rotors are for motor vehicles, and do not contain in the casting a logo of an original equipment manufacturer (“OEM”) which produces vehicles sold in the United States (e.g., General Motors, Ford, Chrysler, Honda, Toyota, Volvo). Brake rotors covered in these reviews are not certified by OEM producers of vehicles sold in the United States. The scope also includes composite brake rotors that are made of gray cast iron, which contain a steel plate, but otherwise meet the above criteria. Excluded from the scope of these reviews are brake rotors made of gray cast iron, whether finished, semifinished, or unfinished, with a diameter less than 8 inches or greater than 16 inches (less than 20.32 centimeters or greater than 40.64 centimeters) and a weight less than 8 pounds or greater than 45 pounds (less than 3.63 kilograms or greater than 20.41 kilograms).

Brake rotors are classifiable under subheading 8708.39.5010 of the Harmonized Tariff Schedule of the United States (“HTSUS”). Although the HTSUS subheading is provided for convenience and customs purposes, our written description of the scope of these reviews is dispositive.

Rescission

We have rescinded the administrative review with respect to Longjing Walking Tractor Works Foreign Trade Import & Export Corporation (“Longjing”), Zibo Luzhou Automobile Parts Co. (“ZLAP”), and Yantai Chen Fu Machinery Co., Ltd. (“Chen Fu”) because they withdrew their requests for review and no other interested party requested a review of these companies. See Preliminary Results, 64 FR at 73009.

Analysis of Comments Received

All issues raised in the case briefs are addressed in the “Issues and Decision Memorandum” (“Decision Memo”) from Richard W. Moreland, Deputy Assistant Secretary for Import Administration, to Troy Cribb, Assistant Secretary for Import Administration, dated October 24, 2000, which is hereby adopted by this notice. A list of the issues raised, all of which are in the Decision Memo, is attached to this notice as an Appendix. Parties can find a complete discussion of all issues raised in the briefs and the corresponding recommendations in this public memorandum which is on file in the Central Records Unit, room B-099 of the main Department building. In addition, a complete version of the Decision Memo can be accessed directly on the Web at http://ia.ita.doc.gov. The paper copy and electronic version of the Decision Memo are identical in content.

Changes Since the Preliminary Results

Based on the use of additional PAI and the comments received from the interested parties, we have made changes in the margin calculations for all nine exporters. For a discussion of these changes, see the “Margin Calculations” section of the Decision Memo.

Final Results of Reviews

We determine that the following weighted-average margin percentages exist for the period April 1, 1998, through March 31, 1999:

Exporter | Margin (percent)
Jilin Provincial Machinery & Equipment Import & Export Corp | 0.00
Laizhou Auto Brake Equipments Factory | 0.00
Laizhou Hongda Auto Replacement Parts Co., Ltd | 0.00
Longkou Haimeng Machinery Co | ¹ 0.10
Qingdao (Gren) Co | 0.69
Yantai Import & Export Corp | ¹ 0.06
Yantai Winhere Auto-Part Manufacturing Co | 0.00
Yenhere Corp | 0.00
Zibo Botai Machinery Manufacturing Co | 0.00
¹ De minimis.

Assessment Rates

The Department shall determine, and Customs shall assess, antidumping duties on all appropriate entries. In accordance with 19 CFR 351.106(c)(2), we will instruct the Customs Service to liquidate without regard to antidumping duties all entries of subject merchandise during the POR from the PRC exporters for which the import-specific assessment rate is zero or de minimis (i.e., less than 0.50 percent). In accordance with 19 CFR 351.212(b), we have calculated importer-specific ad valorem duty assessment rates. We will direct Customs to assess the resulting percentage margin against the entered Customs values for the subject merchandise on each of that importer's entries under the relevant order during the review period. For entries from the PRC non-market economy (“NME”) entity companies (i.e., PRC exporters which are not entitled separate rates), the Customs Service shall assess ad valorem duties at the PRC-wide rate. Because the PRC-wide entity was not reviewed during this POR, the PRC-wide rate remains that established in the less-than-fair-value investigation. For entries made by PRC companies for which the Department has rescinded the administrative review (i.e., Chen Fu, Longjing and ZLAP), Customs shall assess ad valorem duties at the rates applicable at the time of entry.

Cash Deposit Requirements

The following deposit rates shall be required for merchandise subject to the order entered, or withdrawn from warehouse, for consumption on or after the publication date of these final results of administrative and new shipper reviews, as provided by section 751(a)(1) of the Act: (1) The cash deposit rate for each reviewed company will be the rate indicated above; (2) the cash deposit rate for PRC exporters who received a separate rate in a prior segment of the proceeding but for whom the Department has rescinded the review (i.e., Longjing and ZLAP) or of whom the review was not requested for this POR will continue to be the rate assigned in that segment of the proceeding; (3) the cash deposit rate for the PRC NME entity (i.e., all other exporters, including Chen Fu, which have not been reviewed) will continue to be 43.32 percent; and (4) the cash deposit rate for non-PRC exporters of subject merchandise from the PRC will be the rate applicable to the PRC supplier of that exporter. These deposit requirements shall remain in effect until publication of the final results of the next administrative review.

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections section 751(a)(1) and 777(i) of the Act and 19 CFR 351.213.

Dated: October 24, 2000.
Troy H. Cribb,
Acting Assistant Secretary for Import Administration.

Appendix—Issues in Decision Memo

Comments

1. Data from Another Segment of the Proceeding

2. Request for Verification

3. Applying the Separate Rates Test to Laizhou Hongda

4. Treatment of Laizhou Hongda's U.S. Sales

5. Factor Allocation Methodology Used by Respondents Which Also Produce Non-Subject Merchandise

6. Considering the Use of Submitted Surrogate Values

7. Surrogate Value Selection for Plastic Bags

8. Calculation of the Surrogate Profit Ratio

9. Surrogate Value Selection for Firewood

10. Surrogate Value Selection for Labor

11. Surrogate Value Selection for Foreign Inland Freight

[FR Doc. 00-27813 Filed 10-27-00; 8:45 am]

BILLING CODE 3510-DS-U